NUCLEAR REGULATORY COMMISSION

[Docket No. 50-255-LA-3]

ASLBP No. 24-986-01-LA-BD01

Establishment of Atomic Safety and Licensing Board; Holtec Decommissioning International, LLC, and Holtec Palisades, LLC

Pursuant to the Commission's regulations, see, e.g., 10 CFR 2.104, 2.105, 2.300, 2.309, 2.313, 2.318, 2.321, notice is hereby given that an Atomic Safety and Licensing Board (Board) is being established to preside over the following proceeding:

Holtec Decommissioning International, LLC, and Holtec Palisades, LLC (Palisades Nuclear Plant)

Holtec Decommissioning International, LLC and Holtec Palisades, LLC seek four amendments to Renewed Facility Operating License No. DPR-20 to support the potential reauthorization of power operations at the Palisades Nuclear Plant, located in Covert Township, Michigan. In response to a notice filed in the Federal Register announcing the opportunity to request a hearing, see 89 FR 64,486 (Aug. 7, 2024), Alan Blind filed a hearing request on September 9, 2024.

The Board is comprised of the following Administrative Judges:

Emily I. Krause, Chair, Atomic Safety and Licensing Board Panel, U.S. Nuclear Regulatory Commission, Washington, DC 20555-0001

Dr. Gary S. Arnold, Atomic Safety and Licensing Board Panel, U.S. Nuclear Regulatory Commission, Washington, DC 20555-0001

Dr. Arielle J. Miller, Atomic Safety and Licensing Board Panel, U.S. Nuclear Regulatory Commission, Washington, DC 20555-0001

All correspondence, documents, and other materials shall be filed in accordance with the NRC E-Filing rule. See 10 CFR 2.302.

Dated: September 17, 2024.
Edward R. Hawkens,
Chief Administrative Judge, Atomic Safety and Licensing Board Panel, Rockville, Maryland.

[FR Doc. 2024-21648 Filed 9-20-24; 8:45 am]

BILLING CODE 7590-01-P